DEPARTMENT OF STATE

[Public Notice: 11786]

Biodiversity Beyond National Jurisdiction; Public Meeting

ACTION: Notice of public meeting.

SUMMARY: The Department of State will hold an information session regarding upcoming United Nations negotiations concerning marine biodiversity of areas beyond national jurisdiction.

DATES: The public meeting will be held via WebEx on July 26, 2022, 10:00-11:00 a.m.

ADDRESSES: If you would like to participate in this meeting, please send your (1) name, (2) organization/affiliation, and (3) email address and phone number, to Meaghan Cuddy at CuddyMR@state.gov.

SUPPLEMENTARY INFORMATION: The Department of State will hold a public meeting at 10:00 a.m. on Tuesday, July 26, 2022, to prepare for the fifth session of an Intergovernmental Conference (IGC) on the conservation and sustainable use of marine biological diversity of areas beyond national jurisdiction (BBNJ). This public meeting will be held by way of WebEx, with a capacity of up to 1000 members of the public to participate. To RSVP, participants should contact the meeting coordinator, Meaghan Cuddy, by email at CuddyMR@state.gov for log on and dial-in information, and to request reasonable accommodation. Requests for reasonable accommodation received after July 22, 2022, will be considered but might not be possible to fulfill.

The United Nations will convene the fifth session of the BBNJ IGC from August 15-26, 2022, in New York City. The UN General Assembly established the IGC to consider the recommendations of a two-year Preparatory Committee and to elaborate the text of an international legally binding instrument under the United Nations Convention on the Law of Sea on BBNJ. This is the fifth and possibly final Session of the Intergovernmental Conference. It is anticipated that the BBNJ Agreement may be adopted at the conclusion of negotiations in this session. Additional information on the BBNJ process is available at www.un.org/bbnj.

We are inviting interested stakeholders to this virtual public meeting to share views about the BBNJ IGC, in particular to provide information to assist the U.S. Government in developing its positions. We will provide a brief overview of the upcoming discussions and listen to the viewpoints of U.S. stakeholders. The information obtained from this session will help the U.S. delegation prepare for participation in the fifth IGC session.

(Authority: 22 U.S.C. 2656)

John Griffith,
Acting Director, Office of Ocean and Polar Affairs, Department of State.

[FR Doc. 2022-15033 Filed 7-13-22; 8:45 am]

BILLING CODE 4710-09-P